POSTAL SERVICE

Notice of Intelligent Mail Indicia Performance Criteria

AGENCY: Postal Service™.

ACTION: Notice of final changes.

SUMMARY: The Postal Service is updating and consolidating the submission procedures and performance criteria for Postage Evidencing Systems (PES).

DATES: Copies of the Intelligent Mail® Indicia (IMI) Performance Criteria (PC) will be available effective February 4, 2013. Projected implementation dates for the new criteria are set forth in the SUPPLEMENTARY INFORMATION section below.

ADDRESSES: To receive a copy of the IMI PC, mail or deliver written requests to: USPS® Payment Technology/Attn: Marlo Kay Ivey, 475 L'Enfant Plaza SW., Room 3660, Washington, DC 20260-4110.

FOR FURTHER INFORMATION CONTACT: Marlo Kay Ivey, Business Programs Specialist, Payment Technology, U.S. Postal Service, at 202-268-7613.

SUPPLEMENTARY INFORMATION:

Overview

Current product submission procedures, the Performance Criteria and Security Architecture for Open Information Based Indicia (IBI) Postage Evidencing Systems and the Performance Criteria and Security Architecture for Closed Information Based Indicia (IBI) Postage Evidencing Systems (collectively known as the PCIBI) are approximately 10 years old, and since their inception have had little or no substantive updates since being initially provided to the Postage Evidencing System (PES) industry. The PES environment has changed substantially with the availability of new PES products designed to meet new customer needs for access to postage. In addition, changes within the United States Postal Service® (USPS®) infrastructure provide enhanced opportunities for PES providers to propose new concepts, methods, and processes to create, distribute, and enable customers to print pre-paid evidence of postage while improving Postal Service operations efficiency and effectiveness.

On March 30, 2011, the Postal Service published (and requested comments on) a proposed change that will replace the current PES product submission procedures and the PCIBI with the proposed IMI PC document (“IMI PC” or “Document”). This Document is comprised of four volumes to support the United States Postal Service® (USPS®) PES Test and Evaluation Program (the “Program”). The intent is for the volumes to fully support each other without being redundant in content.

Description of Replacement Document

Volume I—PES Requirements. Provides the PES industry and test laboratories with detailed information, requirements, and the guidance necessary to develop new PES technology compliant with current USPS® requirements.

Volume II—IMI Requirements. Provides the minimum required information, both human-readable and machine readable, for all postage evidence produced by a PES. This volume also provides the reporting requirements for all supporting data systems used by USPS® to manage the program.

Volume III—Test and Evaluation Requirements. Provides guidance on additional test and evaluation procedures that a PES must undergo to receive USPS® approval, as well as providing guidance for testing laboratories certified by National Institute of Standards and Technology (NIST) to perform Federal Information Processing Standard (FIPS) 140-X testing and USPS® approved PES testing entities (PTE).

Volume IV—PES Test and Evaluation Program Requirements. Provides the Program and logistical processes required for a new PES to obtain approval from the USPS® as well as the requirements for the evaluation and submission of changes and updates to a previously approved PES.

Annexes A through M provide detailed requirements to support the four volumes described above.

Annex K—Self Service Postage Dispensing (Kiosk) System Requirements. The Kiosk requirements were created for USPS® branded Kiosks only and did not fully consider other unbranded kiosks. This Annex will be updated and expanded to define requirements for both. This annex will be recirculated for comment by April 1, 2013.

Implementation Schedule

New IBI product Concepts of Operation (Con-Ops) may be submitted under the PCIBI if Alpha testing is completed by September 30, 2013.

Effective February 1, 2013, new product submissions must follow the submission and testing processes in Volumes 3 and 4.

For existing IBI Products—Processes in the IMI remain the same as in the IBI.

Effective October 1, 2013, new product submissions must adhere to requirements in Volumes 1 and 2.

Existing IBI Products—These products will continue under PCIBI but must maintain valid FIPS certification.

With the exception of Annex K, as mentioned previously, all annexes will become effective with the Volume they support.

Summary of Comments and Responses

Comments regarding the proposed criteria were received by providers, USPS personnel, and other industry professionals. To review the comments, a Change Control Board (CCB) was formed with various Postal stakeholders represented. The merits of each comment were discussed and reviewed. To receive a copy of the comments and how we addressed them, mail or deliver written requests to: USPS Payment Technology/Attn: Marlo Kay Ivey, 475 L'Enfant Plaza SW., Room 3660, Washington, DC 20260-4110.

Stanley F. Mires,
Attorney, Legal Policy & Legislative Advice.

[FR Doc. 2013-01759 Filed 2-1-13; 8:45 am]

BILLING CODE 7710-12-P